DEPARTMENT OF COMMERCE

International Trade Administration

[A-337-806]

Certain Individually Quick Frozen Red Raspberries from Chile: Extension of the Time Limit for the Final Results of Antidumping Duty Administrative Review

AGENCY: Import Administration, International Trade Administration, Department of Commerce.

EFFECTIVE DATE: November 1, 2006.

FOR FURTHER INFORMATION CONTACT: Yasmin Bordas or Brandon Farlander, AD/CVD Operations, Office 1, Import Administration, International Trade Administration, U.S. Department of Commerce, 14th Street and Constitution Avenue, NW, Washington, DC 20230; telephone (202) 482-3813 or (202) 482-0182, respectively.

SUPPLEMENTARY INFORMATION:

Statutory Time Limits

Section 751(a)(3)(A) of the Tariff Act of 1930, as amended (the Act), requires the Department of Commerce (the Department) to complete the final results of an administrative review within 120 days after the date on which the preliminary results are published. However, if it is not practicable to complete the review within this time period, section 751(a)(3)(A) of the Act allows the Department to extend the time limit for the final results to 180 days from the date of publication of the preliminary results.

Background

On August 29, 2005, the Department published a notice of initiation of administrative review of the antidumping duty order on certain individually quick frozen red raspberries from Chile, covering the period July 1, 2004, through June 30, 2005. See Initiation of Antidumping and Countervailing Duty Administrative Reviews and Requests for Revocation in Part, 70 FR 51009 (August 29, 2005). On August 8, 2006, the Department published the preliminary results of the antidumping duty administrative review. See Notice of Preliminary Results of Antidumping Duty Administrative Review, Notice of Intent to Revoke in Part: Individually Quick Frozen Red Raspberries from Chile, 71 FR 45000 (August 8, 2006).

Extension of Time Limits for Final Results

The Department requires additional time to verify the cost information submitted by a respondent in this administrative review. Moreover, the Department requires additional time to analyze complex cost issues relating to direct material purchases. Thus, it is not practicable to complete this review within the original time limit (i.e., December 6, 2006). Therefore, the Department is extending the time limit for completion of the final results of this administrative review until no later than February 4, 2007, which is 180 days from the date of publication of the preliminary results. However, February 4 falls on Sunday, and it is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for completion of the final results is February 5, 2007.

We are issuing and publishing this notice in accordance with sections 751(a)(1) and 777(i)(1) of the Act.

Dated: October 25, 2006.
Stephen J. Claeys,
Deputy Assistant Secretary for Import Administration.

[FR Doc. E6-18406 Filed 10-31-06; 8:45 am]

BILLING CODE 3510-DS-S